INTERNATIONAL TRADE COMMISSION

[Investigation No. 731-TA-1091 (Review)]

Artists' Canvas From China

Determination

On the basis of the record¹ developed in the subject five-year review, the United States International Trade Commission (Commission) determines, pursuant to section 751(c) of the Tariff Act of 1930 (19 U.S.C. 1675(c)), that revocation of the antidumping duty order on artists' canvas from China would be likely to lead to continuation or recurrence of material injury to an industry in the United States within a reasonably foreseeable time.²

¹ The record is defined in sec. 207.2(f) of the Commission's Rules of Practice and Procedure (19 CFR 207.2(f)).

² Commissioner Daniel R. Pearson dissenting.

Background

The Commission instituted this review on May 2, 2011 (76 FR 24516) and determined on August 5, 2011 that it would conduct an expedited review (76 FR 54789, September 2, 2011).

The Commission transmitted its determination in this review to the Secretary of Commerce on October 25, 2011. The views of the Commission are contained in USITC Publication 4273 (October 2011), entitled Artists' Canvas from China: Investigation No. 731-TA-1091 (Review).

By order of the Commission.
Issued: October 25, 2011.
James R. Holbein,
Secretary to the Commission.

[FR Doc. 2011-28121 Filed 10-28-11; 8:45 am]

BILLING CODE 7020-02-P